DEPARTMENT OF STATE

[Public Notice 11871]

Exchange Visitor Program

ACTION: Notice of Temporary Waiver and Modification of Certain Regulatory Requirements.

SUMMARY: In accordance with the General Provisions of the Exchange Visitor Program regulations, the Department's Assistant Secretary for Educational and Cultural Affairs waives and modifies certain regulatory requirements with respect to a temporary educational and cultural exchange program established pursuant to an arrangement between the Government of the United States of America and the Government of Ukraine. This arrangement allows the Department to extend Special Student Relief to eligible Ukrainian students in the United States on J-1 visas to help mitigate the adverse impact on them resulting from the full-scale Russian invasion of Ukraine that began on February 24, 2022.

DATES: This action was effective on August 18, 2022, and will remain in effect until October 23, 2023, unless the U.S. Government unilaterally ends the arrangement early or the U.S. Government and the Government of Ukraine together extend its termination date. The Department will publish a document in the Federal Register if the termination date is changed.

FOR FURTHER INFORMATION CONTACT: Nicole Elkon, Deputy Assistant Secretary, Private Sector Exchange at 2200 C Street NW, SA-5, 5th Floor, Washington, DC 20522 or via email at JExchanges@state.gov. or phone (2020 826-4364.

SUPPLEMENTARY INFORMATION: On February 24, 2022, Russian military forces invaded Ukraine, resulting in the destruction of infrastructure and the disruption of daily life. Many exchange visitors from Ukraine dependent upon financial support originating in their home country have limited or no access to funds. Others may have difficulty returning home. To ameliorate hardship arising from lack of financial support and to facilitate these students' continued studies in the United States, in accordance with the Exchange Visitor Program Regulations, located in 22 CFR part 62, the Department's Assistant Secretary for Educational and Cultural Affairs has waived and/or modified certain provisions in § 62.23 with respect to an educational and cultural exchange program established pursuant to an arrangement between the Government of the United States of America and the Government of Ukraine. The Department is establishing this temporary program to offer “Special Student Relief” to eligible Ukrainian exchange visitors in the College and University category. As described in detail below and with respect to Special Student Relief for eligible Ukrainian students, the Department temporarily waives and/or modifies the application of selected portions of the following sections of regulations governing the College and University Student category of the Exchange Visitor Program: Full Course of Study (§ 62.23(e)), Student Employment (§ 62.23(g), and Duration (§ 62.23(h)).

Individuals eligible for Special Student Relief, like those eligible for Temporary Protective Status (TPS), must have continuously resided in the United States since April 11, 2022. Special Student Relief with respect to program status and employment for J-1 Ukrainian students does not apply to Federal Work-Study jobs.

Regulations at § 62.23(e) enumerate the circumstances under which students (except student interns) are exempt from the “full course of study” requirement as defined in § 62.2. Because those circumstances do not include exigent circumstances such as war as an articulated exemption from the full course of study requirement, the Department temporarily waives § 62.23(e) for eligible Ukrainian students.

Regulations at § 62.23(g) enumerate the conditions that students (except student interns) must meet to engage in employment. With respect to Special Student Relief, the Department temporarily waives all subsections of § 62.23(g) except (g)(2)(i) and (iv). By retaining § 62.23(g)(2)(i), Ukrainian students are required to remain in good academic standing at the post-secondary accredited academic institutions at which they are registered. By modifying § 62.23(g)(2)(iv), sponsors may grant advanced, written employment approval to last beyond the twelve months that the provision currently allows, i.e., for the duration of the arrangement between the United States and Ukraine. Waiver and modification of these provisions allow eligible Ukrainian students to work on- or off-campus, for more than 20 hours a week, and for longer than twelve months.

Regulations at § 62.23(h) enumerate the conditions that exchange visitors must meet to retain their authorization to participate in the Exchange Visitor Program. For purposes of Special Student Relief, the Department modifies § 62.23(h)(1)(i)(A) to allow eligible Ukrainian students to pursue course work equivalent to half of the full course of study requirement as defined in § 62.2 and further explained in paragraph (e) of § 62.23. The Department similarly modifies § 62.23(h)(2)(i)(A) to allow eligible Ukrainian students to participate half-time in a prescribed course of study. In other words, degree-seeking students may limit their course work to half of their academic institutions' definition of a full-course of study. Similarly, non-degree-seeking students may reduce participation in their academic programs from full- to part-time.

The Department notes that the establishment of Special Student Relief does not alter the rules and requirements of accredited academic institutions. If, for example, an institution does not allow part-time participation in non-degree academic programs, students must negotiate flexible conditions with their institutions to overcome such rules and requirements. The temporary waiver and modification of Exchange Visitor Program regulations only address conditions that eligible Ukrainian exchange visitors must meet to be in status and comply with Exchange Visitor Program eligibility requirements.

Responsible Officers of academic institutions may authorize Special Student Relief for college and university students in J-1 status whose means of financial support from Ukraine has been disrupted, reduced, or eliminated due to the Russian invasion if they have continuously resided in the United States since April 11, 2022, and meet the reduced course load requirements set forth above. To authorize on-campus or off-campus employment for these students, Responsible Officers should update the students' records in the Student and Exchange Visitor Information System (SEVIS) by notating the following text in the “Remarks” field: “Special Student Relief work authorization granted until October 19, 2023.” To authorize a reduced course load due to such employment, Responsible Officers should also notate the “Comment” field in the SEVIS record with the following text: “reduced course load authorized.” Responsible Officers should monitor students at the start of each term to confirm that students seeking to reduce their course loads intend to work more than 20 hours a week or that students who availed themselves of reduced course loads intend to continue to work more than 20 hours a week.

If the arrangement between the United States and Ukraine is terminated early or extended, Responsible Officers should update the Remarks field accordingly. Exchange visitors participating according to the waived and/or modified provisions at the time the arrangement ends may continue their current employment and course load through the end of the academic term during which the arrangement ends.

Lee Satterfield,
Assistant Secretary, Bureau of Educational and Cultural Affairs, Department of State.

[FR Doc. 2023-07021 Filed 4-4-23; 8:45 am]

BILLING CODE 4710-05-P